Proclamation 9796 of September 28, 2018

Gold Star Mother's and Family's Day, 2018

By the President of the United States of America

A Proclamation

Courageous Americans of every generation have given their last full measure of devotion in defense of our country and our freedom. The families who stood alongside these heroes have paid a price no family should ever have to pay. Gold Star Mother's and Family's Day is a solemn reminder that these families—the families of our fallen service members—bear the burden of their loss forever.

A century ago, President Woodrow Wilson approved a recommendation by the Women's Committee of National Defenses for mothers to display a gold star on an armband of black cloth to enhance public recognition for the loss of their children in World War I. Since then, millions of families have tragically traded in blue stars for heroes fighting for America for gold stars of the fallen—a badge of honor they wished they would never have to hold.

Although they have suffered unimaginable sorrow, Gold Star families have charged forward with inspiring strength and determination, giving selflessly to their communities and our country. They support our men and women in uniform, our wounded warriors, and our veterans. Their unselfish leadership fosters patriotism and encourages us to consider what we can do to be better citizens.

We will never forget those who nobly gave their lives in service to our country. Today, we pay tribute to these brave men and women in uniform by honoring the mothers, fathers, wives, husbands, brothers, sisters, sons, and daughters who have wounds in their hearts that will never be fully healed. We will continue to support them as they supported our country by selflessly sharing their loved ones for the noble cause of freedom. Let us pledge our deep and everlasting respect and gratitude to our Gold Star families.

The Congress, by Senate Joint Resolution 115 of June 23, 1936 (49 Stat. 1895 as amended), has designated the last Sunday in September as “Gold Star Mother's Day.”

NOW, THEREFORE, I, DONALD J. TRUMP, President of the United States of America, by virtue of the authority vested in me by the Constitution and the laws of the United States, do hereby proclaim September 30, 2018, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-eighth day of September, in the year of our Lord two thousand eighteen, and of the Independence of the United States of America the two hundred and forty-third.

[FR Doc. 2018-21819

Filed 10-3-18; 11:15 am]

Billing code 3295-F9-P